NUCLEAR REGULATORY COMMISSION

[NRC-2019-0226]

Agency Action Regarding the Exploratory Process for the Development of an Advanced Nuclear Reactor; Generic Environmental Impact Statement; Correction

AGENCY: Nuclear Regulatory Commission.

ACTION: Gather information that would be used to determine whether to prepare a generic environmental impact statement for the construction and operation of advanced nuclear reactors; extension of comment period; correction.

SUMMARY: The U.S. Nuclear Regulatory Commission (NRC) is correcting a notice that was published in the Federal Register on December 9, 2019 that extends the comment period on the exploratory process to determine whether to proceed with the development of generic environmental impact statement for the construction and operation of advanced nuclear reactors (ANR GEIS). This action is necessary to correct the public comment period due date from January 24, 2019 to January 24, 2020.

DATES: The correction takes effect on December 13, 2019.

ADDRESSES: Please refer to Docket ID NRC-2019-0226 when contacting the NRC about the availability of information regarding this document. You may obtain publicly-available information related to this document using any of the following methods:

• Federal Rulemaking Website: Go to https://www.regulations.gov and search for Docket ID NRC-2019-0226. Address questions about NRC dockets IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Jack Cushing, Office of Nuclear Material Safety and Safeguards, telephone: 301-415-1424, email: Jack.Cushing@nrc.gov or Mallecia Sutton, Office of Nuclear Reactor Regulation, telephone: 301-415-0673, email: Mallecia.Sutton@nrc.gov. Both are staff of the U.S. Nuclear Regulatory Commission, Washington, DC 20555-0001.

SUPPLEMENTARY INFORMATION: In the Federal Register (FR) on December 9, 2019, in FR Doc. 2019-26442, on page 67300, in the first column, second paragraph, second sentence under the DATES section, correct “Comments should be filed no later than January 24, 2019” to read “Comments should be filed no later than January 24, 2020.” In the third column, first paragraph, fourth sentence, correct “The NRC has decided to extend the public comment period on this process until January 24, 2019, to allow more time for members of the public to submit their comments” to “The NRC has decided to extend the public comment period on this process until January 24, 2020, to allow more time for members of the public to submit their comments.”

Dated at Rockville, Maryland, this 10th day of December 2019.
For the Nuclear Regulatory Commission.
Anthony E. deJesus,
Team Leader, Legal Research Center, Program Support Branch, Office of the General Counsel.

[FR Doc. 2019-26916 Filed 12-12-19; 8:45 am]

BILLING CODE 7590-01-P